NUCLEAR REGULATORY COMMISSION

Advisory Committee on Reactor Safeguards; Subcommittee Meeting on Planning and Procedures; Revised

The ACRS Subcommittee on Planning and Procedures scheduled to start at 1 p.m. on Tuesday, July 11, 2000, Room T-2B1, 11545 Rockville Pike, Rockville, Maryland has been changed to start at 9 a.m. Notice of this meeting was published in the Federal Register on Monday, June 26, 2000 (65 FR 39446). All other items pertaining to this meeting remain the same as previously published.

FOR FURTHER INFORMATION CONTACT: Dr. John T. Larkins, cognizant ACRS staff person (telephone: 301/415-7360) between 7:30 a.m. and 4:15 p.m. (EDT).

Dated: July 6, 2000.
Howard J. Larson,
Acting Associate Director for Technical Support, ACRS/ACNW.

[FR Doc. 00-17623 Filed 7-11-00; 8:45 am]

BILLING CODE 7590-01-P